NUCLEAR REGULATORY COMMISSION

[NRC-2009-0294]

Notice of Issuance of Regulatory Guide

AGENCY: Nuclear Regulatory Commission.

ACTION: Notice of issuance and availability of Regulatory Guide 1.100, Revision 3.

FOR FURTHER INFORMATION CONTACT: John Burke, U.S. Nuclear Regulatory Commission, Washington, DC 20555-0001, telephone (301) 251-7628 or e-mail to John.Burke@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 3 of Regulatory Guide 1.100, “Seismic Qualification of Electrical and Active Mechanical Equipment and Functional Qualification of Active Mechanical Equipment for Nuclear Power Plants,” was issued with a temporary identification as Draft Regulatory Guide, DG-1175. This guide describes methods that the staff of the NRC considers acceptable for use in the seismic qualification of electrical and active mechanical equipment and the functional qualification of active mechanical equipment for nuclear power plants (NPPs).

The general requirements for the seismic qualification of electrical and active mechanical equipment appear in Title 10 of the Code of Federal Regulations (10 CFR) part 50, “Domestic Licensing of Production and Utilization Facilities,” and 10 CFR part 52, “Early Site Permits; Standard Design Certifications; and Combined Licenses for Nuclear Power Plants.” Particular sections include General Design Criterion (GDC) 1, “Quality Standards and Records”; GDC 2, “Design Bases for Protection Against Natural Phenomena”; and GDC 4, “Environmental and Dynamic Effects Design Basis,” of Appendix A, “General Design Criteria for Nuclear Power Plants,” to 10 CFR part 50; Criterion III, “Design Control”; Criterion XI, “Test Control”; and Criterion XVII, “Quality Assurance Records,” of Appendix B, “Quality Assurance Criteria for Nuclear Power Plants and Fuel Reprocessing Plants,” to 10 CFR part 50; and Appendix S, “Earthquake Engineering Criteria for Nuclear Power Plants,” to 10 CFR part 50.

II. Further Information

In May 2008, DG-1175 was published with a public comment period of 60 days from the issuance of the guide. The public comment period closed on July 11, 2008. The staff's responses to the public comments are located in NRC's Agencywide Documents Access and Management System under accession number ML091320489. Electronic copies of Regulatory Guide 1.100, Revision 3 are available through the NRC's public Web site under “Regulatory Guides” at http://www.nrc.gov/reading-rm/doc-collections/.

In addition, regulatory guides are available for inspection at the NRC's Public Document Room (PDR) located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resource@nrc.gov.

Regulatory guides are not copyrighted, and NRC approval is not required to reproduce them.

Dated at Rockville, Maryland, this 25th day of August 2009.
For the Nuclear Regulatory Commission.
Andrea D. Valentin,
Chief, Regulatory Guide Development Branch, Division of Engineering, Office of Nuclear Regulatory Research.

[FR Doc. E9-22558 Filed 9-17-09; 8:45 am]

BILLING CODE 7590-01-P